DEPARTMENT OF HEALTH AND HUMAN SERVICES

Health Resources and Services Administration

Recharter for the Council on Graduate Medical Education

AGENCY: Health Resources and Services Administration (HRSA), Department of Health and Human Services.

ACTION: Notice.

SUMMARY: In accordance with the Federal Advisory Committee Act, the Department of Health and Human Services is hereby giving notice that the Council on Graduate Medical Education (COGME or Council) is rechartered.

DATES: The effective date of the renewed charter is September 30, 2024.

FOR FURTHER INFORMATION CONTACT: Shane Rogers, Designated Federal Official (DFO), Division of Medicine and Dentistry, Bureau of Health Workforce, HRSA, 5600 Fishers Lane, Room 15N142, Rockville, Maryland 20857; 301-443-5260; or srogers@hrsa.gov.

SUPPLEMENTARY INFORMATION: COGME makes recommendations to the Secretary of Health and Human Services and Congress on matters specified by section 762 of the Public Health Service Act. Issues addressed by COGME include: (1) the supply and distribution of physicians in the United States; (2) current and future shortages or excesses of physicians in medical and surgical specialties and subspecialties; (3) issues relating to internationalmedical school graduates; (4) appropriate federal policies with respect to the matters specified in (1), (2), and (3) above, including policies concerning changes in the financing of undergraduate and graduate medical education programs and changes in the types of medical education training in graduate medical education programs; (5) appropriate efforts to be carried out by hospitals, schools of medicine, schools of osteopathic medicine, and accrediting bodies with respect to the matters specified in (1), (2), and (3) above, including efforts for changes in undergraduate and graduate medical education programs; and (6) deficiencies in, and needs for improvements in, existing databases concerning the supply and distribution of, and postgraduate training programs for, physicians in the United States and steps that should be taken to eliminate those deficiencies. Not later than September 30, 2023, and not less than every 5 years thereafter, COGME shall submit a report on the recommendations made by the committee to the Secretary of Health and Human Services, and to the Committee on Health, Education, Labor, and Pensions of the Senate and the Committee on Energy and Commerce of the House of Representatives. Additionally, COGME encourages entities providing graduate medical education to conduct activities to voluntarily achieve the recommendations of the Council; develops, publishes, and implements performance measures; develops and publishes guidelines for longitudinal evaluations; and recommends appropriation levels for certain programs under title VII of the Public Health Service Act.

The renewed charter for COGME was approved on September 18, 2024. The filing date is September 30, 2024. The recharter of COGME gives authorization for the Council to operate until September 30, 2026.

A copy of the COGME charter is available on the COGME website at https://www.hrsa.gov/sites/default/files/hrsa/advisory-committees/graduate-medical-edu/cogme-charter.pdf. A copy of the charter also can be obtained by accessing the FACA database that is maintained by the Committee Management Secretariat under the General Services Administration. The website address for the FACA database is http://www.facadatabase.gov/.

Maria G. Button,
Director, Executive Secretariat.

[FR Doc. 2024-22256 Filed 9-27-24; 8:45 am]

BILLING CODE 4165-15-P